DEPARTMENT OF ENERGY

Office of Science; Basic Energy Sciences Advisory Committee Renewal

Pursuant to Section 14(a)(2)(A) of the Federal Advisory Committee Act and in accordance with title 41 of the Code of Federal Regulations, Section 101-6.1015, and following consultation with the Committee Management Secretariat, General Services Administration, notice is hereby given that the Basic Energy Sciences Advisory Committee has been renewed for a two-year period beginning in January 2001. The Committee will provide advice to the Director, Office of Science, on the basic energy sciences program.

The Secretary has determined that the renewal of the Basic Energy Sciences Advisory Committee is essential to the conduct of the Department's business and in the public interest in connection with performance of duties imposed upon the Department of Energy by law. The Committee will continue to operate in accordance with the provisions of the Federal Advisory Committee Act, the Department of Energy Organization Act (Public Law 99-91), and rules and regulations issued in implementation of those Acts.

Further information regarding this advisory committee can be obtained from Rachel Samuel at (202) 586-3279.

Issued in Washington, DC, on January 16, 2001.
James N. Solit,
Advisory Committee Management Officer.

[FR Doc. 01-1692 Filed 1-19-01; 8:45 am]

BILLING CODE 6450-01-P